DEPARTMENT OF COMMERCE

International Trade Administration

[A-583-837]

Polyethylene Terephthalate Film, Sheet, and Strip From Taiwan: Final Results of Antidumping Duty Administrative Review; 2019-2020

AGENCY: Enforcement and Compliance, International Trade Administration, Department of Commerce.

SUMMARY: On August 2, 2021, the Department of Commerce (Commerce) published the preliminary results of the administrative review of the antidumping duty order on polyethylene terephthalate film, sheet, and strip (PET film) from Taiwan. The period of review (POR) is July 1, 2019, through June 30, 2020. We received no comments or requests for a hearing. We continue to find that sales of subject merchandise by Nan Ya Plastics Corporation (Nan Ya) were not made at less than normal value during the POR. We also continue to find that Shinkong Materials Technology Corporation (SMTC) had no shipments of subject merchandise during the POR.

DATES: Applicable January 27, 2022.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On August 2, 2021, Commerce published the preliminary results for this administrative review.¹ On August 25, 2021, we issued a supplemental questionnaire to Nan Ya.² The petitioners ³ requested an extension of the briefing schedule on August 25, 2021.⁴ On August 27, 2021, we notified parties that we would reset the deadlines to submit case briefs at a later date.⁵ On September 2, 2021, Nan Ya submitted its response to our supplemental questionnaire.⁶ On November 15, 2021, Commerce extended the deadline for these final results to January 28, 2022.⁷ Commerce established the revised deadlines for the briefing schedule on November 23, 2021.⁸ No interested party submitted comments or requested a hearing in this administrative review. Commerce conducted this administrative review in accordance with section 751(a)(1)(B) of the Tariff Act of 1930, as amended (the Act).

¹ See Polyethylene Terephthalate Film, Sheet, and Strip from Taiwan: Preliminary Results of Antidumping Duty Administrative Review and Preliminary Determination of No Shipments; 2019-2020, 86 FR 41443 (August 2, 2021) (Preliminary Results) and accompanying Preliminary Decision Memorandum (PDM).

² See Commerce's Letter, “2019-2020 Administrative Review of the Antidumping Duty Order on Polyethylene Terephthalate Film, Sheet and Strip (PET Film): Supplemental Questionnaire,” dated August 25, 2021.

³ The petitioners are DuPont Teijin Films; Mitsubishi Polyester Film, Inc.; and SKC, Inc.

⁴ See Petitioners' Letter, “Polyethylene Terephthalate (PET) Film, Sheet, and Strip from Taiwan: Request for Extension of Briefing Schedule,” dated August 25, 2021.

⁵ See Memorandum, Extending Briefing Schedule, “2019-2020 Antidumping Duty Administrative Review of Polyethylene Terephthalate (PET) Film, Sheet and Strip from Taiwan,” dated August 27, 2021.

⁶ See Nan Ya's Letter, “Polyethylene Terephthalate (PET) Film, Sheet, and Strip from Taiwan: Supplemental Questionnaire Response,” dated September 2, 2021 (Nan Ya's SQR).

⁷ See Memorandum, “2019-2020 Antidumping Duty Administrative Review of Polyethylene Terephthalate (PET) Film, Sheet, and Strip from Taiwan,” dated November 15, 2021.

⁸ See Memorandum, “Polyethylene Terephthalate Film, Sheet, and Strip (PET Film) from Taiwan- Briefing,” dated November 23, 2021.

Scope of the Order.⁹

⁹ See Notice of Amended Final Antidumping Duty Determination of Sales at Less Than Fair Value and Antidumping Duty Order: Polyethylene Terephthalate Film, Sheet, and Strip (PET Film) from Taiwan, 67 FR at 46566 (July 15, 2002) (Order).

The products covered by the Order are all gauges of raw, pretreated, or primed PET film, whether extruded or coextruded. Excluded are metalized films and other finished films that have had at least one of their surfaces modified by the application of a performance-enhancing resinous or inorganic layer of more than 0.00001 inches thick. Imports of polyethylene terephthalate film, sheet, and strip are currently classifiable in the Harmonized Tariff Schedule of the United States (HTSUS) under item number 3920.62.00.90. HTSUS subheadings are provided for convenience and customs purposes. The written description of the scope of the Order is dispositive.

Final Determination of No Shipments

Because we received no comments on the Preliminary Results, we have made no changes to the preliminary determination of no shipments. Based on our analysis of U.S. Customs and Border Protection (CBP) information and information provided by SMTC and its affiliate, Shinkong Synthetic Fibers Corporation, we continue to determine that SMTC had no shipments of the subject merchandise during the POR.¹⁰

¹⁰ For a full discussion of this determination, see Preliminary Results PDM.

Final Results of Review

As noted above, Commerce received no comments concerning the Preliminary Results. Nan Ya submitted values for U.S. inventory carrying costs, which had been inadvertently omitted in its prior filings.¹¹ We incorporated these corrections into these final results ¹² and continue to find that sales of subject merchandise by Nan Ya were not made at less than normal value during the POR. Accordingly, no decision memorandum accompanies this Federal Register notice. For further details of the issues addressed in this proceeding, see the Preliminary Results and the accompanying Preliminary Decision Memorandum.¹³ The final weighted-average dumping margin for the period July 1, 2019, through June 30, 2020, for Nan Ya is as follows:

¹¹ See Nan Ya's SQR at 7.

¹² See Memorandum, “Nan Ya's Final Analysis Memorandum,” dated concurrently with the signature of this Federal Register notice.

¹³ See Preliminary Results PDM.

Producer/exporter | Weighted- average margin (percent)
Nan Ya Plastics Corporation | 0.00

Assessment Rates

Commerce has determined, and CBP shall assess, antidumping duties on all appropriate entries in this review, in accordance with section 751(a)(2)(C) of the Act and 19 CFR 351.212(b)(1). Commerce intends to issue appropriate assessment instructions directly to CBP no earlier than 35 days after the date of publication of the final results of this administrative review. If a timely summons is filed at the U.S. Court of International Trade, the assessment instructions will direct CBP not to liquidate relevant entries until the time for parties to file a request for a statutory injunction has expired (i.e., within 90 days of publication). Because we calculated a zero margin in the final results of this review for Nan Ya, in accordance with 19 CFR 351.212, we will instruct CBP to liquidate the appropriate entries without regard to dumping duties.¹⁴

¹⁴ See 19 CFR 351.106(c)(2).

Cash Deposit Requirements

The following cash deposit requirements will be effective upon publication of the final results of this administrative review for all shipments of the subject merchandise entered, or withdrawn from warehouse, for consumption on or after the publication date, as provided for by section 751(a)(2)(C) of the Act: (1) The cash deposit rate for Nan Ya will be zero, the rate established in the final results of this review; (2) for previously reviewed or investigated companies not covered in this review, the cash deposit rate will continue to be the company-specific rate published for the most recent period; (3) if the exporter is not a firm covered in this or any previous review or in the original less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 2.40 percent, which is the all-others rate established by Commerce in the LTFV investigation.¹⁵ These cash deposit requirements, when imposed, shall remain in effect until further notice.

¹⁵ See Notice of Amended Final Determination of Sales at Less Than Fair Value and Antidumping Duty Order: Polyethylene Terephthalate Film, Sheet, and Strip (PET Film), 67 FR at 44174, 44175 (July 1, 2002), unchanged in Order; see also Notice of Final Determination of Sales at Less Than Fair Value: Polyethylene Terephthalate Film, Sheet, and Strip (PET Film) from Taiwan, 67 FR 35474 (May 20, 2002).

Disclosure

Commerce will disclose to interested parties the calculations performed in connection with the final results within five days of the date of publication of the notice of final results in the Federal Register, in accordance with 19 CFR 351.224(b).

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

Notification to Interested Parties

We are issuing and publishing these final results of administrative review in accordance with sections 751(a)(1) and 777(i)(1) of the Act, and 19 CFR 351.221(b)(5).

Dated: January 21, 2022.
Lisa W. Wang,
Assistant Secretary for Enforcement and Compliance.

[FR Doc. 2022-01599 Filed 1-26-22; 8:45 am]

BILLING CODE 3510-DS-P